NATIONAL CREDIT UNION ADMINISTRATION

Sunshine Act Meeting

TIME AND DATE: 10:00 a.m., Thursday, September 19, 2019.

PLACE: Board Room, 7th Floor, Room 7047, 1775 Duke Street (All visitors must use Diagonal Road Entrance) Alexandria, VA 22314-3428.

STATUS: Open.

MATTERS TO BE CONSIDERED:

1. Share Insurance Fund Quarterly Report.

2. NCUA Rules and Regulations, Supervisory Committee Audits.

3. NCUA Rules and Regulations, Federal Credit Union Bylaws.

4. NCUA Rules and Regulations, Payday Alternative Loans II.

FOR FURTHER INFORMATION CONTACT: Gerard Poliquin, Secretary of the Board, Telephone: 703-518-6304.

Gerard Poliquin,
Secretary of the Board.

[FR Doc. 2019-20112 Filed 9-12-19; 4:15 pm]

BILLING CODE 7535-01-P